FEDERAL ELECTION COMMISSION

11 CFR Parts 4, 5 and 111

[NOTICE 2004—2]

Rulemaking Petition: Public Access to Materials Relating to Closed Enforcement Cases

AGENCY: Federal Election Commission.

ACTION: Rulemaking petition: notice of availability.

SUMMARY: On December 9, 2003, the Commission received a Petition for Rulemaking jointly submitted by the Campaign Legal Center, the National Voting Rights Institute, the Center for Responsive Politics, and Democracy 21. Petitioners urge the Commission to revise its regulations to provide for the disclosure of materials relating to closed enforcement cases without unnecessarily burdening First Amendment interests. The Petition is available for inspection in the Commission's Public Records Office, through its Faxline service, and on its Web site, http://www.fec.gov.

DATES: Statements in support of or in opposition to the Petition must be submitted on or before February 13, 2004.

ADDRESSES: All comments should be addressed to Ms. Mai T. Dinh, Acting Assistant General Counsel, and must be submitted in either electronic or written form. Electronic mail comments should be sent to publicaccess@fec.gov and must include the full name, electronic mail address, and postal service address of the commenter. Electronic mail comments that do not contain the full name, electronic mail address, and postal service address of the commenter will not be considered. If the electronic mail comments include an attachment, the attachment must be in the Adobe Acrobat (.pdf) or Microsoft Word (.doc) format. Faxed comments should be sent to (202) 219-3923, with printed copy follow-up to ensure legibility. Written comments and printed copies of faxed comments should be sent to the Federal Election Commission, 999 E Street, NW., Washington, DC 20463. Commenters are strongly encouraged to submit comments electronically to ensure timely receipt and consideration. The Commission will make every effort to have public comments posted on its web site within ten business days of the close of the comment period.

FOR FURTHER INFORMATION CONTACT: Ms. Mai T. Dinh, Acting Assistant General Counsel, or Mr. Anthony T. Buckley, Staff Attorney, 999 E Street, NW., Washington, DC 20463, (202) 694-1650 or (800) 424-9530.

SUPPLEMENTARY INFORMATION:

The Federal Election Commission (“Commission”) has received a Petition for Rulemaking jointly submitted by the Campaign Legal Center, the National Voting Rights Institute, the Center for Responsive Politics, and Democracy 21. Petitioners ask that the Commission revise 11 CFR 4.2, 4.4(a)(3), 5.4, 111.20 and 111.21, so as to provide for the disclosure of materials relating to closed enforcement cases without unnecessarily burdening First Amendment interests. The Commission seeks comments on this issue.

Copies of the Petition for Rulemaking are available for public inspection at the Commission's Public Records Office, 999 E Street, NW., Washington, DC 20463, Monday though Friday between the hours of 9 a.m. and 5 p.m., and on the Commission's Web site, http://www.fec.gov. Interested persons may also obtain a copy of the Petition by dialing the Commission's Faxline service at (202) 501-3413 and following its instructions, at any time of the day and week. Request document #256.

Consideration of the merits of the Petition will be deferred until the close of the comment period. If the Commission decides that the Petition has merit, it may begin a rulemaking proceeding. Any subsequent action taken by the Commission will be announced in the Federal Register.

Dated: January 8, 2004.
Bradley A. Smith,
Chairman, Federal Election Commission.

[FR Doc. 04-786 Filed 1-13-04; 8:45 am]

BILLING CODE 6715-01-P